INTER-AMERICAN FOUNDATION

Sunshine Act Meetings

TIME AND DATE October 10, 2023, ET, 2:00 p.m.-3:00 p.m.

PLACE: Via Zoom.

STATUS: Meeting of the Board of Directors, open to the public.

MATTERS TO BE CONSIDERED:

Call to Order

Overview of Meeting Rules by General Counsel

Approval of Minutes from June 6, 2023 meeting

2024 Strategic Priorities Review

Adjournment

CONTACT PERSON FOR MORE INFORMATION: Nicole Stinson, Associate General Counsel, (202) 683-7117 or nstinson@iaf.gov.

For Dial-in Information Contact: Nicole Stinson, Associate General Counsel, nstinson@iaf.gov.

The Inter-American Foundation is holding this meeting under the Government in the Sunshine Act, 5 U.S.C. 552b.

Nicole Stinson,
Associate General Counsel.

[FR Doc. 2023-21862 Filed 9-28-23; 4:15 pm]

BILLING CODE 7025-01-P